DEPARTMENT OF COMMERCE

Submission for OMB Review; Comment Request

The Department of Commerce will submit to the Office of Management and Budget (OMB) for clearance the following proposal for collection of information under the provisions of the Paperwork Reduction Act (44 U.S.C. chapter 35).

Agency: National Institute of Standards and Technology (NIST).

Title: A Guide for Preparing and Submitting White Papers to the Technology Innovation Program (TIP).

OMB Control Number: None.

Form Number(s): None.

Type of Request: Regular submission.

Number of Respondents: 100.

Average Hours per Response: 4.

Burden Hours: 400.

Needs and Uses: The guide explains how interested parties can participate in helping to develop new areas for future competitions for the Technology Innovation Program (TIP) by offering ideas in the form of a white paper. TIP will use white papers to shape future competitions. The pertinent ideas, concepts and knowledge offered by stakeholders in these white papers combined with information from a variety of sources, enable TIP to identify and address critical national need and associated societal challenges suitable for TIP investment.

Affected Public: Business or other for-profit organizations; Not-for-profit institutions; Federal government; State, local, or tribal government.

Frequency: Annually.

Respondent's Obligation: Voluntary.

OMB Desk Officer:. Jasmeet Seehra, (202) 395-3123.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jasmeet Seehra, OMB Desk Officer, FAX number (202) 395-5806, or via the Internet at Jasmeet_K_Seehra@omb.eop.gov.

Dated: March 31, 2010.
Gwellnar Banks,
Management Analyst, Office of the Chief Information Officer.

[FR Doc. 2010-7661 Filed 4-5-10; 8:45 am]

BILLING CODE 3510-13-P